DEPARTMENT OF HEALTH AND HUMAN SERVICES

Indian Health Service

Elder Health Care Initiative

AGENCY: Indian Health Service, HHS.

ACTION: Notice of availability of funds for competitive grants for development of long-term care infrastructure for American Indian and Alaska Native (AI/AN) elders.

SUMMARY: The Indian Health Service (IHS) announces the availability of approximately $650,000 for competitive grants established under the authority of section 301(a) of the Public Health Service Act, as amended, to Tribal, Urban and non-profit Indian organizations to support projects that target the development of reimbursable long-term care services for American Indian and Alaska Native elders. There will be only one funding cycle during Fiscal Year (FY) 2003 (see Fund Availability and Period of Support). This program is described at 93.933 in the Catalog of Federal Domestic Assistance. Executive Order 12372 requiring intergovernmental review is not applicable to this program.

The Public Health Service (PHS) is committed to achieving the health promotion and disease prevention objectives of Healthy People 2010. A copy may be obtained by calling the National Center for Health Statistics, telephone (301) 443-8500 or at http://www.healthypeople.gov/document.

Smoke Free Workplace: The PHS strongly encourages all grant recipients to provide a smoke-free workplace and promote the non-use of all tobacco products. This is consistent with the PHS mission to protect and advance the physical and mental health of the American people.

Due Date: An original and two (2) copies of the completed grant application must be submitted with all required documentation to the Grants Management Branch, IHS, 801 Thompson Avenue, Suite 120, Rockville, MD 20852, by close of business August 1, 2003.

Applications shall be considered as meeting the deadline if they are either: (1) Received on or before the deadline with hand carried applications received by close of business 5 p.m.; or (2) postmarked on or before the deadline date and received in time to be reviewed along with all other timely applications. A legibly dated receipt from a commercial carrier or the U.S. Postal Service will be accepted as proof of timely mailing. Private metered postmarks will not be accepted as proof of timely mailing. Applications received after the announced closing date will be returned to the applicant and will not be considered for funding.

Additional Dates:

A. Application Review Date: August 11—September 2, 2003.

B. Applicants Notified of Results (approved, approved unfunded, or disapproved): September 15, 2003.

C. Anticipated Start Date: September 15, 2003.

Contacts for Assistance: For program information, contact Bruce Finke; M.D., Coordinator, IHS Elder Care Initiative, PO Box 467, Zuni, NM 87327, (505) 782-7357, bfinke@abq.ihs.gov.

Techinical Assistance for applicants will be available from the NICOA Long Term Care Technical Support Center (Dave Baldridge, Program Director, (505) 292-2001 or dave@nicoa.org).

For grant application and business information, contact Martha Redhouse, Grants Management Officer, Grants Management Branch, IHS, 801 Thompson Avenue, Suite 120, Rockville, MD 20852, (301) 443-5204. (The telephone numbers are not toll-free numbers.)

SUPPLEMENTARY INFORMATION: This announcement provides information on the general program goal, eligibility and documentation requirements, programmatic activities, funding availability and period of support, and application procedures.

General Program Goals: The American Indian and Alaska Native elder population is rapidly growing and the AI/AN population as a whole is aging. The prevalence of chronic disease in this population continues to increase, contributing to a frail elder population with increasing long-term care needs.

The goal of this grant program is to assist Tribes and urban communities to develop reimbursable or self-financing long-term care services for their frail elders. The need for these services should be clearly established based on demographics and the assessment of rates of functional impairment in the population. The services should be acceptable to elders and their families and consistent with community values in their implementation. The services should be part of an overall vision and plan for a long-term care system to support elders and their families.

Long-term care can be understood as an array of social and health care services that support an individual who has needs for assistance in activities of daily living over a prolonged period. While families continue to be the backbone of long-term care for AI/AN elders, there is an urgent need to develop both services and systems of care to support families as they care for their elders. The way systems are developed and implemented can have significant impact on the cultural and spiritual health of the community. Home and community based services have been demonstrated to be the most cost efficient approach to long-term care, have the potential for meeting the needs of the vast majority of elders requiring long-term care services, and support the key roles of the family in the care of the elders and the elder in the care of the family and community.

Tribes and communities have very different histories, capabilities, and resources with regard to long-term care program development. Thus, each tribe or community will have different priorities in building an infrastructure of long term care. The focus of long term care planning and service delivery is at the tribal and urban community level. An efficient and effective system of long term care would make use of all available resources, integrating and coordinating services to assist families in the care of their elders. A necessary step in that process is to develop tribally administered and delivered long term care services.

Applicants are required to demonstrate the sustainability through ongoing reimbursement or other funding of projects initiated with grant funds. Applicants are also required to demonstrate how the grant-funded program integrates into a long-term care for the Tribe and community. A variety of resources are available to fund Tribal or urban AI/AN long-term care services. While currently funded IHS services comprise parts of a long-term care system, the degree to which these resources are applied to the needs of elders depends both on the local health care priorities and on the degree of organization of the system to care for elders. Programs funded through the Administration on Aging (including the recently funded National Family Caregiver Support Program) have been key elements in the long-term care infrastructure in Indian communities. Other resources are available to provide long-term care services on a reimbursable basis to eligible AI/AN elders. The majority of long-term care services in this country are funded by Medicaid, Medicare (limited) and various State-home and community-based care programs. The Veterans Administration is also a source of reimbursement for long-term care services for eligible AI/AN Veterans. Federal housing programs are a potential resource in developing the long-term care infrastructures. Each of these resources has unique eligibility requirements.

The Long-Term Care Technical Support Center (Dave Baldridge, Program Director, (505) 292-2001 or dave@nicoa.org) will be available to provide consultation and technical support to Tribes and communities as they develop their grant application.

Eligibility and Documentation Requirements: Any federally recognized Indian Tribe, Tribal or American Indian/Alaska Native organization or 501(c)(3) non-profit organizations serving primarily American Indians and Alaska Natives is eligible to apply for a grant from the IHS under this announcement. All eligible Tribes, Tribal, or American Indian/Alaska Native organizations must meet the descriptions and criteria established to determine non-profit status as specified in this grant announcement. American Indian and Alaska Native Faith-Based non-profit organizations are both included and encouraged to apply as implied in American Indian/Alaska Native organizations as referenced above.

Documentation of Support

1. Tribal Resolutions.

(a) A resolution of the Indian Tribe or Indian Tribal organization supporting this specific project must accompany the application submission.

(b) Applications which propose services which will benefit more than one Indian Tribe must include resolutions from all affected Tribes to be served.

(c) Applications by Tribal organizations will not require resolution(s) if the current Tribal resolution(s) under which they operate would encompass the proposed grant activities. A statement of proof or a copy of the current operational resolution must accompany the application.

(d) If a resolution or a statement is not submitted, the application will be considered incomplete and will be returned without consideration.

2. Non-Profit organizations must submit a copy of the 501(c)(3) certificate, a valid IRS tax exemption certificate or a statement from a State taxing body certifying applicant organization has a nonprofit status.

3. Letters of Cooperation/Collaboration/Assistance.

(a) Letters included in the application should be specific to this program.

(b) If other related human services programs are to be involved in the project, letters confirming the nature and extent of their cooperation/collaboration/assistance must be submitted.

Project Types

Eligible projects are those that aim to develop the capacity to deliver long-term care services at the Tribal or regional level. The application should describe a comprehensive plan or vision for elder care services for the community and how the grant proposal will move toward that vision through program development. Examples include the establishment of a personal care agency licensed through a state home and community based care waiver program, establishment of hospice or home health agency, licensed elder day program, geriatric assessment (to identify the needs of the frail elder and their family and identify services which are currently available to meet those needs), case management to organize, broker, and monitor services, community housing such as assisted living, board and care or adult foster home.

The proposal should:

1. Include a brief assessment of current resources and programs.

2. Demonstrate how the need for the particular service or program was identified. If information is not currently available regarding elder demographics and functional impairment rates, this should be obtained in the first year of the grant. Additional years of funding will be contingent on demonstrating this basic demographic information.

3. Show how the project will make use of available funding streams (Medicaid waivers, personal care options or State-home and community based care services, VA long-term care benefits, other resources) for service delivery.

4. Integrate or coordinate with currently available local services for the elderly (including those available through current IHS funding, Title VI or Family Caregiver Support funding, Tribal funding, and other resources). When possible this should be indicated in letters of support.

5. Demonstrate consistency with cultural values of the community around the care of the elderly.

6. Build upon the family as the primary source of support for the elder.

7. Applicants are encouraged to explore novel funding streams to provide services (e.g., TANF training funds, HUD, USDA programs).

8. The application should include a clear plan for self-sufficiency through reimbursement or ongoing funding by the end of the grant cycle. This should include agency licensing or certification as required.

9. Tribal match or cost sharing is not required.

Fund Availability and Period of Support: In FY 2003, it is anticipated that approximately $650,000 will be available to support 20 projects at approximately $30,000 to $50,000 each year for three years, inclusive of direct and indirect costs. Projects will be funded in annual budget periods of three years. Continuation of projects following the initial three-year project will be based upon the availability of appropriations in future years, the continuing need of IHS for the projects, and satisfactory project performance. Projects should not anticipate continued funding past the project period and should include efforts to become self-sustaining. The anticipated start date will be September 15, 2003.

The Elder Care Initiative Grant Application Kit: An IHS Grant Application Kit, including form PHS 5161-1 (rev. 7.00), (OMB Approval No. 0920-0428) may be obtained from the Grants Management Branch, IHS, 801 Thompson Avenue, Suite 120, Rockville, MD 20852, telephone (301) 443-5204.

Factors for Consideration in Preparing the Application

1. Following the outline provided in the announcement will guide the writing of the application and facilitate the reviewers in locating required information.

2. Projects should demonstrate coordination with other agencies and organizations within and without the community who serve the targeted population.

3. Indian cultural aspects should be considered in program design.

Application Process: All applications must be single-spaced, typewritten, and consecutively numbered pages using black type not smaller than 12 characters per one inch, with conventional one-inch border margins, on only one side of standard size 8½ × 11 paper that can be photocopied. The application Narrative (not including the Appendix) must not exceed ten typed pages. An additional page may be used for each additional year of funding requested. Exclusions from the 10-page limit are the Abstract, Tribal Resolution(s), 501(c)(3) non-profit certificate, valid IRS tax exemption certificate, Letters of Documentation or Support, Standard Forms, Table of Contents, and the Appendix. All applications must include the following in the order presented:

(a) Tribal Resolution(s) and Documentation or 501(c)(3) Certification, or a copy of the Letters of Cooperation/Collaboration/Assistance

(b) Standard Form 424, Application for Federal Assistance

(c) Standard Form 424A, Budget Information—Non-Construction Programs (pages 1 and 2)

(d) Standard Form 424B, Assurances—Non-Construction Programs (front and back)

(e) Checklist (pages 25-26) NOTE: Each standard form and the checklist is contained in the PHS Grant Application, Form PHS 5161-1 (Rev. 07/00)

(f) A Project Abstract (may not exceed one typewritten page) should present a summary view of “who-what-when-where-how-cost” to determine acceptability for review

(g) A table of contents to correspond with numbered pages

(h) Project Narrative (10 pages)

(1) Introduction and Need for Assistance

(2) Project Objective(s), Approach, and Results & Benefits

(3) Project Evaluation

(4) Organizational Capabilities and Qualifications

(5) Budget

(i) Proof of Non-Profit status as follows:

1. A reference to the applicant organization's listing in the Internal Revenue Services: (IRS) most recent list of tax-exempt organizations described in section (501)(c)(3) of the IRS code.

2. A copy of a currently valid IRS tax exemption certificate.

3. A statement from a State taxing body, State Attorney General, or other appropriate State official certifying that the applicant organization has a non-profit status and that none of the net earnings accrue to any private shareholders or individuals.

4. A certified copy of the organization's certificate of incorporation or similar document that clearly establishes non-profit status.

5. Any of the above proof for a State or national parent organization and a statement signed by the parent organization that the applicant organization is a local non-profit affiliate.

(j) Appendix to include:

(1) Resumes of key staff

(2) Position description for key staff

(3) Organizational chart

(4) Documentation of current certified financial management systems

(5) Copy of current negotiated indirect cost rate agreement

(6) A map of the area to benefit from the project, and

(7) Application Receipt Card, IHS-815-1A (Rev. 4-97).

(a) Narrative

The narrative section of the application must include the following: (1) Justification for need for assistance; (2) work plan (including use of appropriate Native healing practices), program objectives, approach, expected results and evaluation process, (3) adequacy of management controls, and (4) key personnel. The work plan section should be project specific. These instructions for the preparation of the narrative are to be used in lieu of the instructions on pages 21-23 of PHS 5161-1. The narrative section should be written in a manner that is clear to outside reviewers unfamiliar with prior related activities of the applicant. It should be well organized, succinct, and contain all information necessary for reviewers to understand the project fully. The Narrative may not exceed TEN single spaced pages in length, excluding attachments, budget and Tribal Resolutions, 5019c)(3) non-profit certificate, and Letters of Support. (Pages must be numbered.

(b) Need for Assistance

(1) Describe and define the target population at the project location (e.g. tribal population, number of elders 55 years and older, percentage and numbers of elders who have functional impairment and are in need of assistance). Information sources must be appropriately identified.

(2) Describe the existing resources and services available, including the maintenance of Native healing systems, where appropriate, which are related to the specific program/service the applicant is proposing to provide. Supply the name, address, and phone number of a contact person for each.

(3) Describe in detail the needs of the target population and what efforts have been made in the past to meet these needs, if any (e.g. programs and services currently available to meet the needs of the frail or functionally impaired elderly).

(4) Summarize the applicable national, IHS, and/or State standards, laws and regulations, and describe the unmet needs of any applicant's current program in relation to applicable national, IHS, and/or State standards, laws and regulations, (e.g. Medicare/Medicaid, third-party payor reimbursements, Federal/State/Tribal laws regarding instituting home health agencies, elder housing, adult day-care, nursing homes, etc.)

(c) Work Plan

(1) Program Objectives

(i) State concisely the objectives of the project.

(ii) Describe briefly what the project intends to accomplish.

(iii) Describe how accomplishment of the objectives will be measured (including if replicable).

(2) Approach

(i) Describe the tasks and resources needed to implement and complete this project.

(ii) Provide a task time line (milestones) breakdown or chart. Include the date that the project will begin to accept clients.

(3) Describe the Expected Results

(i) Discuss data collection for the project, how it will be obtained, analyzed, and maintained by the project. Data should include, but is not limited to, the number and types of clients served, services provided, client outcomes and satisfaction, and costs associated with the program.

(ii) Describe how the data collection will support the stated program objectives and how it will support the program evaluation to determine the impact of the project.

(4) Program Evaluation

(i) Describe the methods for evaluating program activities, effectiveness of interventions, success in achieving objectives, the impact of interventions, acceptance among the targeted population, and workload accomplishments.

(ii) Identify who will conduct the evaluation of the projected outcomes and when the evaluation is to be completed.

(iii) Identify the cost of the evaluation (whether internal or external).

(5) Program Continuance

Discuss how the program services will be sustainable through ongoing reimbursement or other established funding mechanisms.

(6) Experience Sharing

Indicate the project's willingness to share its program experience with IHS Areas, urban programs, Tribes and other Tribal organizations.

(d) Adequacy of Management Controls

(1) Describe where the project will be housed, i.e. facilities and equipment available.

(2) Describe the management controls of the grantee over the directions and acceptability of work to be performed. Discuss personnel and financial systems in use and changes planned for this grant.

(3) Applicant must demonstrate that the organization has adequate systems and expertise to manage Federal funds. Also, include a letter from the accounting firm describing results of the most recent organization-wide audit.

(e) Key Personnel

(1) Provide a biographical sketch (qualifications) and position descriptions for the program director and other key personnel as described on page 22 of the PHS 5161-1. Identify existing personnel and new program staff to be hired.

(2) Provide an organizational chart and indicate how the project will operate within the organization. Describe how this program will interface with other existing available resources.

(3) List the qualifications and experience of consultants or contractors where their use is anticipated. Identify who will determine if the work of a contractor is acceptable.

(f) Budget

(1) An itemized estimate of costs and justification for the proposed program by line item must be provided on Form SF 424A Budget Information Non-Construction Programs.

(2) A narrative justification must be submitted for all costs. Indicate needs by listing individual items and quantities necessary. The need for items and quantities should be clearly specified in the narrative justification.

(3) Any special start up costs should be indicated.

(4) Three-Year Projects—Projects requiring three years of funding must include a brief program narrative and budget for each additional year of funding requested. The applicant may use one additional page to describe the developmental plans for each additional year of the project.

(5) Grant funding may not be used to supplant existing public and private resources.

(g) Assurances

The application shall contain assurance to the Secretary that the applicant will comply with program regulations, 42 CFR part 36, Subpart H.

Review Process: Applications meeting eligibility requirements that are complete, responsive, and conform to this program announcement will be reviewed for merit by reviewers appointed by the IHS. The review will be conducted in accordance with PHS review procedures. The review process ensures selection of quality projects in a national competition for limiting funding. Applications will be evaluated and rated on the basis of the evaluation criteria listed below. These criteria are used to evaluate the quality of a proposed project, to assign a numerical score to each application, and to determine the likelihood of its success. Applications scoring below 60 points will not be funded. Applications that are acceptable for funding based on scoring will be ranked. Considerations in ranking include geographic diversity among funded programs, diversity in population size among Tribes and communities served by funded programs, and unique features with regard to type of program planned or population served.

Evaluation Criteria: Applications will be evaluated against the following criteria and weights:

Weight | Criteria | Description
25% | 1 | Need—The demonstration of identified problems and risks in the target population. Extent of community involvement and commitment. This includes the statement of the vision or plan for elder care and the assessment of current resources, programs, and existing funding streams for services.
40% | 2 | Work Plan—The soundness and effectiveness of the applicant's plan for conducting the project, with special emphasis on the objectives and methodology portion of the application. This includes how the proposal fits the overall plan for long-term care, how it will make use of existing or novel funding streams for services, how it is integrated into the existing service structure, and the likelihood of achieving self-sufficiency by the end of the grant cycle.
15% | 3 | Adequacy of Management Controls—The apparent capability of the applicant to successfully conduct the project including both technical and business aspects. The soundness of the applicant's budget in relation to the project work plan and for assuring effective utilization of grant funds. Adequacy of facilities and equipment available within the organization or proposed for purchase under the project.
10% | 4 | Key Personnel—Qualifications and adequacy of the key staff.
10% | 5 | Budget—Clarity and accuracy of program costs, and cost justification for the entire grant period.
100% Total Weight

Reporting Requirements

(1) Progress Report—Program progress reports will be required semiannually. These reports will include a brief description of a comparison of actual accomplishments to the goals established for the period, reasons for slippage and other pertinent information as required. A final report is due 90 days after expiration of the project/budget period.

(2) Financial Status Report—A semiannual financial status report will be submitted 30 days after the end of the half-year. Final financial status reports are due 90 days after expiration of the project/budget period. Standard Form 269 (long form) will be used for financial reporting.

Grant Administration Requirements: Grants are administered in accordance with the following documents:

(1) 45 CFR Part 92. Department of Health and Human Services, Uniform Administrative Requirements for Grants and Cooperative Agreements to State and Local Governments, or 45 CFR Part 74, Administration of Grants to Non-profit recipients.

(2) Public Health Service Grants Policy Statement, and

(3) Appropriate Cost Principles: OMB Circular A-87, State and Local Governments, or OMB Circular A-122, Nonprofit Organizations.

Results of the Review: Successful applicants are notified through the official Notice of Grant Award (NGA) document. The NGA will state the amount of Federal funds awarded, the purpose of the grant, the terms and conditions of the grant award, the effective date of the award, the project period, and the budget period.

Dated: June 12, 2003.
Charles W. Grim,
Assistant Surgeon General, Interim Director, Indian Health Service.

[FR Doc. 03-15507 Filed 6-18-03; 8:45 am]

BILLING CODE 4160-16-M